DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: StormReady, TsunamiReady, StormReady/TsunamiReady, and StormReady and TsunamiReady Supporter Application Forms.

OMB Control Number: 0648-0419.

Form Number(s): None.

Type of Request: Regular (revision of a currently approved information collection).

Number of Respondents: 305.

Average Hours per Response: Two hours for StormReady, TsunamiReady and Stormready/TsunamiReady applications, and one hour for support applications.

Burden Hours: 545.

Needs and Uses: This request is for revision of a currently approved information collection.

NOAA's National Weather Service would like to add a TsunamiReady Supporter Application Form to its currently approved collection, which includes StormReady, TsunamiReady, StormReady/TsunamiReady, and StormReady Supporter application forms. The title would then change to “StormReady, TsunamiReady, StormReady/TsunamiReady, StormReady Supporter and TsunamiReady Supporter Application Forms”. This new application would be used by entities such as businesses and not-for-profit institutions that may not have the resources necessary to fulfill all the eligibility requirements to achieve the full TsunamiReady recognition. The form will be used to apply for initial TsunamiReady Supporter recognition and renewal of that recognition every five years. The federal government will use the information collected to determine whether an entity has met all of the criteria to receive TsunamiReady Supporter recognition.

Affected Public: Business or other for-profit organizations; state, local or tribal government.

Frequency: Every six years or one time only.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: July 18, 2016.
Sarah Brabson,
NOAA PRA Clearance Officer.

[FR Doc. 2016-17305 Filed 7-21-16; 8:45 am]

BILLING CODE 3510-KE-P